COMMISSION ON OCEAN POLICY

Public Meeting

AGENCY: Commission on Ocean Policy.

ACTION: Notice.

SUMMARY: The U.S. Commission on Ocean Policy will hold a meeting to discuss the development of recommendations for a coordinated national ocean policy. This will be the fifteenth public Commission meeting.

DATES: The public meeting will be held Wednesday, April 2, 2003 from 1 p.m. to 6 p.m. and Thursday, April 3, 2003 from 9 a.m. to 5 p.m.

ADDRESSES: The meeting location is the Cafritz Conference Center, George Washington University, 800 21st Street, NW., Suite 204, Washington, DC 20052.

FOR FURTHER INFORMATION CONTACT: Terry Schaff, U.S. Commission on Ocean Policy, 1120 20th Street, NW., Washington, DC 20036, 202-418-3442, schaff@oceancommission.gov.

SUPPLEMENTARY INFORMATION: This meeting is being held pursuant to requirements under the Oceans Act of 2000 (Pub. L. 106-256, Section 3(e)(1)(E)). The agenda will include discussions of policy options, a public comment session, and any required administrative discussions and executive sessions. Members of the public are requested to submit their statements for the record electronically by Friday, March 28, 2003 to the meeting Point of Contact. The meeting agenda, including the specific time for the public comment period, and guidelines for making public comments will be posted on the Commission's Web site at http://www.oceancommission.gov prior to the meeting.

Dated: March 14, 2003.
Thomas R. Kitsos,
Executive Director, U.S. Commission on Ocean Policy.

[FR Doc. 03-6679 Filed 3-19-03; 8:45 am]

BILLING CODE 6820-WM-P